NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a meeting of the Advisory Committee on the Medical Uses of Isotopes (ACMUI) on April 5, 2022. A sample of agenda items to be discussed during the public session includes: An overview of fiscal year (FY) 2021 medical related events; an overview of how to minimize institutional approaches to reducing medical events; an overview of two yttrium-90 microsphere technologies; an overview on non-medical events for FYs 2020 and 2021; updates on the National Institute of Standards and Technology Radioisotope Measurement Assurance Program; a discussion on the current ACMUI reporting structure; and an update on Medical Team activities. The agenda is subject to change. The current agenda and any updates will be available on the ACMUI's Meetings and Related Documents web page at https://www.nrc.gov/reading-rm/doc-collections/acmui/meetings/2022.html or by emailing Mr. Don Lowman at the contact information below.

Purpose: Discuss issues related to 10 CFR part 35 Medical Use of Byproduct Material.

Date and Time for Open Session: Tuesday, April 5, 2022, from 10:00 a.m. to 5:00 p.m. EST.

Date | Webinar information (Microsoft Teams)
April 5, 2022 | Link: https://teams.microsoft.com/l/meetup-join/19%3ameeting_MzgyMWU5ZDUtMDc2Ny00YmUwLWFkODUtNDk1N2Y5MmEzMTM2%40thread.v2/0?context=%7b%22Tid%22%3a%22e8d01475-c3b5-436a-a065-5def4c64f52e%22%2c%22Oid%22%3a%2209a47f07-225c-402e-8b6f-c9f03adf8db6%22%7d.
| Call in number (audio only): +1 301-576-2978 (Silver Spring, MD, US). Phone Conference ID: 220 765 08#.

Public Participation: The meeting will be held as a webinar using Microsoft Teams. Any member of the public who wishes to participate in any open sessions of this meeting should click on the link above to join the meeting. It is recommended that attendees should login ten minutes prior to ensure they can properly connect to the meeting. Members of the public should also monitor the NRC's Public Meeting Schedule at https://www.nrc.gov/pmns/mtg for any meeting updates. If there are any questions regarding the meeting, persons should contact Mr. Lowman using the information below.

Contact Information: Mr. Don Lowman, email: Donald.Lowman@nrc.gov, telephone: 301-415-5452.

Conduct of the Meeting

The ACMUI Chair, Darlene F. Metter, M.D., will preside over the meeting. Dr. Metter will conduct the meeting in a manner that will facilitate the orderly conduct of business. The following procedures apply to public participation in the meeting:

1. Persons who wish to provide a written statement should submit an electronic copy to Mr. Lowman using the contact information listed above. All submittals must be received by the close of business on March 28, 2022 and must only pertain to the topics on the agenda.

2. Questions and comments from members of the public will be permitted during the meeting, at the discretion of the ACMUI Chairman.

3. The draft transcript and meeting summary will be available on ACMUI's website https://www.nrc.gov/reading-rm/doc-collections/acmui/meetings/2022.html on or about May 17, 2022.

4. Persons who require special services, such as those for the hearing impaired, should notify Mr. Lowman of their planned participation.

This meeting will be held in accordance with the Atomic Energy Act of 1954, as amended (primarily Section 161a); the Federal Advisory Committee Act (5 U.S.C. App); and the Commission's regulations in title 10 of the Code of Federal Regulations, Part 7.

Dated at Rockville, Maryland this 7th day of March, 2022.
For the U.S. Nuclear Regulatory Commission.
Russell E. Chazell,
Federal Advisory Committee Management Officer.

[FR Doc. 2022-05047 Filed 3-9-22; 8:45 am]

BILLING CODE 7590-01-P